DEPARTMENT OF JUSTICE

Notice of Lodging of Consent Decree Under the Comprehensive Environmental Response, Compensation, and Liability Act

Notice is hereby given that on July 31, 2001, a proposed Consent Decree in United States v. Lockheed Martin Corp., et al., Civil Action No. 3-01-3166-19, was lodged with the United States District Court for the District of South Carolina.

In this action, the United States sought reimbursement of past response costs under section 107(a) of the Comprehensive Environmental Response, Compensation, and Liability Act (“CERCLA”), 42 U.S.C. 9607(a), for costs incurred by the United States for response actions performed at or in connection with the Divex, Inc. Superfund Site located in Richland County, South Carolina (the “Site”). In the same action, co-plaintiff South Carolina Department of Health and Environmental Control (“SCDHEC”) sought reimbursement of past response costs under section 107(a) of CERCLA and S.C. Code Ann. § 44-56-200 for costs incurred by SCDHEC for response actions performed at or in connection with the Site. Under the proposed Consent Decree, the six defendants have agreed to pay a total of $1,067,811 in reimbursement of the United States' past response costs and $7,189 in reimbursement of SCDHEC's past response costs. In addition, under the proposed Consent Decree, Settling Federal Agencies have agreed to pay $930,662 in reimbursement of the United States' past response costs, and $6,376 in reimbursement of SCDHEC's past response costs.

The Department of Justice will receive for a period of thirty(30) days from the date of this publication comments relating to the Consent Decree. Comments should be addressed to the Assistant Attorney General, Environment and Natural Resources Division, PO Box 7611, U.S. Department of Justice, Washington, DC 20044-7611, and should refer to United States v. Lockheed Martin Corp., et al., D.J. Ref. 90-11-3-06841.

The Consent Decree may be examined at the Office of the United States Attorney, First Union Building, 1441 Main Street, Suite 500, Columbia, South Carolina 29201, and at U.S. EPA Region 4, 61 Forsyth Street, Atlanta, Georgia 30303. A copy of the Consent Decree may also be obtained by mail from the Consent Decree Library, PO Box 7611, U.S. Department of Justice, Washington, DC 20044-7611. In requesting a copy, please enclose a check in the amount of $8.00 (25 cents per page reproduction costs) payable to the Consent Decree Library.

Ellen M. Mahan,
Assistant Chief, Environmental Enforcement Section Environment and Natural Resources Division.

[FR Doc. 01-20644 Filed 8-15-01; 8:45 am]

BILLING CODE 4410-15-M